SECURITIES AND EXCHANGE COMMISSION

In the Matter of K's Media, File No. 500-1; Order of Suspension of Trading

September 4, 2013.

It appears to the Securities and Exchange Commission that there is a lack of current and accurate information concerning the securities of K's Media because it has not filed any periodic reports since the period ended April 30, 2010.

The Commission is of the opinion that the public interest and the protection of investors require a suspension of trading in the securities of the above-listed company. Therefore, it is ordered, pursuant to Section 12(k) of the Securities Exchange Act of 1934, that trading in the securities of the above-listed company is suspended for the period from 9:30 a.m. EDT on September 4, 2013, through 11:59 p.m. EDT on September 17, 2013.

By the Commission.
Jill M. Peterson,
Assistant Secretary.

[FR Doc. 2013-21839 Filed 9-4-13; 4:15 pm]

BILLING CODE 8011-01-P